DEPARTMENT OF AGRICULTURE

Forest Service

Supplement to the Draft Environmental Impact Statement for the Drew Creek, Diamond Rock and Divide Cattle Allotments, Tiller Ranger District, Umpqua National Forest, Douglas County, OR

AGENCY: Forest Service, USDA.

ACTION: Notice of intent to prepare a supplement to a draft environmental impact statement.

SUMMARY: The USDA Forest Service will prepare a Supplement to the Draft Environmental Impact Statement (EIS) for the Drew Creek, Diamond Rock and Divide Cattle Allotments. The draft EIS for the Drew Creek, Diamond Rock and Divide Cattle Allotments was released by former Forest Supervisor Don Ostby in May 2001 (Notice of Availability, May 25, 2001, 66 FR 28904). Based on comments received on the draft EIS, as well as monitoring data that indicate additional grazing opportunities can be successfully implemented through adaptive management practices, Forest Supervisor James A. Caplan decided to prepare a supplement pursuant to 40 CFR 1502.9(c)(1)(ii). This supplement will provide a new proposed action to the existing analysis. Previous notices were published in the Federal Register on April 2, 1999, (64 FR 15953); and May 25, 2001, (66 FR 28904).

ADDRESSES: Send written comments and suggestions concerning the scope of this supplement to Sharon R. Sprouse, District Ranger, Tiller Ranger District, 27812 Tiller-Trail Highway, Tiller, Oregon 97484.

FOR FURTHER INFORMATION CONTACT: West Yamamoto, ID Team Leader, Tiller Ranger District, 27812 Tiller-Trail Highway, Tiller, Oregon 97484, or (541) 825-3201.

Responsible Official: Forest Supervisor James A. Caplan is the responsible official for this EIS. Mr. Caplan may be contacted at Umpqua National Forest, 2900 NW., Stewart Parkway, Roseburg, OR 97470.

SUPPLEMENTARY INFORMATION: The purpose of the supplement is to provide a new proposed action. The proposed action would permit 1,903 head months (HM) to graze three full allotments, and portion of two other allotments, totaling 51,950 acres. Under this proposed action, 90 HM would be permitted on the drew Creek Allotment, 680 HM on the Diamond Rock Allotment, 418 HM in the Divide Allotment, 440 HM on a portion of the Summit Allotment and 275 HM in a portion of the Acker Divide Allotment. It also will provide additional information on the biological, social and economic environments that would be affected by the proposal.

In addition to the new proposed action, the supplement will contain three other alternatives, including: (1) The no change alternative, which describes the current grazing program; (b) an alternative proposed by the South Umpqua Grazing Association, which represents local ranchers and livestock grazing permittees; and (c) the no grazing alternative, which would eliminate the range program on the Tiller Ranger District.

The supplement will be prepared and circulated in the same manner as the draft EIS (40 CFR 1502.9). Comments received on the supplement will be considered in the preparation of the Final Environmental Impact Statement (FEIS). The supplement to the draft EIS is expected to be available for public review and comment in October 2004. The comment period on the supplement will be 45 days from the date the Environmental Protection Agency's publishes the notice of availability in the Federal Register.

The Forest Service believes it is important to give reviewers notice of several court rulings related to public participation in the environmental review process. First, reviewers of supplemental draft EIS must structure their participation in the environmental review of the proposal so that it is meaningful and alerts an agency to the reviewer's position and contentions. Vermont Yankee Nuclear Corp. v. NRDC, 435 U.S. 519, 553 (1978). Also, environmental objections that could be raised at the draft EIS stage, but are not raised until the completion of the final EIS, may be waived or dismissed by the courts. City of Angoon v. Hodel, 803 F.2d 1016, 1002 (9th Cir, 1986), and Wisconsin Heritages, Inc. v. Harris, 490 F. Supp. 1334, 1338 (E.D. Wis. 1980). Because of these court rulings, it is important that those interested in this proposed action participate by the close of the 45-day comment period so substantive comments and objections are made available to the Forest Service at a time when it can meaningfully consider them and respond to them in the final EIS.

To assist the Forest Service in identifying and considering issues and concerns on the proposed action, comments on the supplemental draft EIS should be as specific as possible. It is also helpful if comments refer to specific pages or chapters of the supplemental draft EIS. Comments may also address the adequacy of the supplemental draft EIS or the merits of the alternatives formulated and discussed in the statement. Reviewers may wish to refer to the Council of Environmental Quality Regulations for implementing the procedural provisions of the National Environmental Policy Act at 40 CFR 1503.3 in addressing these points.

In the final EIS, the Forest Service is required to respond to substantive comments and responses received during the comment period that pertain to the environmental consequences discussed in the supplemental draft EIS, as well as applicable laws, regulations and policies considered, in making a decision regarding the proposal. The final EIS is scheduled to be completed in December 2004. The Responsible Official is James A. Caplan, Forest Supervisor for the Umpqua National Forest. The Responsible Official will document the decision and rationale for the decision in the Record of Decision. Comments received, including the names and addresses of those who comment, will be considered part of the public record on this proposal and will be available for public inspection.

(Authority: 40 CFR 1501.7 and 1508.22; Forest Service Handbook 1909.15, Section 21)

Dated: September 1, 2004.
James A. Caplan,
Forest Supervisor.

[FR Doc. 04-20306 Filed 9-7-04; 8:45 am]

BILLING CODE 3410-11-M